DEPARTMENT OF COMMERCE

International Trade Administration

[A-570-849]

Certain Cut-to-Length Carbon Steel Plate From the People's Republic of China; Initiation of New Shipper Review

AGENCY: Import Administration, International Trade Administration, Department of Commerce.

EFFECTIVE DATE: January 17, 2008.

SUMMARY: The Department of Commerce (the “Department”) has determined that a request for a new shipper review of the antidumping duty order on certain cut-to-length steel plate (“CTL steel plate”) from the People's Republic of China (“PRC”), received in November 2007, meets the statutory and regulatory requirements for initiation. The period of review (“POR”) of this new shipper review is November 1, 2006, through October 31, 2007.

FOR FURTHER INFORMATION CONTACT: Demitrios Kalogeropoulos or Blanche Ziv, AD/CVD Operations, Office 8, Import Administration, International Trade Administration, U.S. Department of Commerce, 14th Street and Constitution Avenue, NW., Washington, DC 20230; telephone: (202) 482-2623 and (202) 482-4207, respectively.

SUPPLEMENTARY INFORMATION:

Background

The notice announcing the antidumping duty order on CTL steel plate from the PRC was published on October 21, 2003. See Suspension Agreement on Certain Cut-to-Length Carbon Steel Plate From the People's Republic of China; Termination of Suspension Agreement and Notice of Antidumping Duty Order, 68 FR 60081 (October 21, 2003). On November 30, 2007, we received a timely request for a new shipper review from Hunan Valin Xiangtan Iron & Steel Co., Ltd. (“Hunan Valin”) in accordance with 19 CFR 351.214(d)(2). Hunan Valin has certified that it produced and exported the CTL steel plate on which it based its request for a new shipper review. The Department initially denied Hunan Valin's request for a new shipper review in this case. However, as a result of subsequent information submitted by the requester, the Department has reconsidered its decision and is now initiating the new shipper review.

Initiation of New Shipper Reviews

Pursuant to section 751(a)(2)(B)(i)(I) of the Tariff Act of 1930, as amended (“the Act”), and 19 CFR 351.214(b)(2), Hunan Valin certified that it did not export CTL steel plate to the United States during the period of investigation (“POI”). Pursuant to section 751(a)(2)(B)(i)(II) of the Act and 19 CFR 351.214(b)(2)(iii)(A), Hunan Valin certified that, since the initiation of the investigation, it has never been affiliated with any exporter or producer who exported CTL steel plate to the United States during the POI, including those not individually examined during the investigation. As required by 19 CFR 351.214(b)(2)(iii)(B), Hunan Valin also certified that its export activities were not controlled by the central government of the PRC.

In addition to the certifications described above, the exporter submitted documentation establishing the following: (1) The date on which it first shipped CTL steel plate for export to the United States and the date on which the CTL steel plate was first entered, or withdrawn from warehouse, for consumption; (2) the volume of its first shipment; and (3) the date of its first sale to an unaffiliated customer in the United States.

Pursuant to section 751(a)(2)(B) of the Act and 19 CFR 351.214(d)(1), we are initiating this new shipper review for shipments of CTL steel plate from the PRC produced and exported by Hunan Valin.

The POR is November 1, 2006, through October 31, 2007. See 19 CFR 351.214(g)(1)(i)(B). We intend to issue preliminary results of these reviews no later than 180 days from the date of initiation, and final results of these reviews no later than 270 days from the date of initiation. See section 751(a)(2)(B)(iv) of the Act.

On August 17, 2006, the Pension Protection Act of 2006 (“H.R. 4”) was signed into law. Section 1632 of H.R. 4 temporarily suspends the authority of the Department to instruct U.S. Customs and Border Protection to collect a bond or other security in lieu of a cash deposit in new shipper reviews during the period April 1, 2006, through June 30, 2009. Therefore, the posting of a bond or other security under section 751(a)(2)(B)(iii) of the Act in lieu of a cash deposit is not available in this case. Importers of CTL steel plate manufactured and exported by Hunan Valin must continue to pay a cash deposit of estimated antidumping duties on each entry of subject merchandise at the current PRC-wide rate of 128.59 percent.

Interested parties requiring access to proprietary information in this new shipper review should submit applications for disclosure under administrative protective order in accordance with 19 CFR 351.305 and 351.306. This initiation and notice are in accordance with section 751(a)(2)(B) of the Act and 19 CFR 351.214 and 351.221(c)(1)(i).

Dated: January 11, 2008.
Stephen J. Claeys,
Deputy Assistant Secretary for Import Administration.

[FR Doc. E8-788 Filed 1-16-08; 8:45 am]

BILLING CODE 3510-DS-P